DEPARTMENT OF THE INTERIOR

National Park Service Northeast Region; Notice of Intent To Prepare an Environmental Impact Statement and Hold Public Meetings for Harriet Tubman Special Resource Study

In accordance with section 102 (c) of the National Environmental Policy Act of 1969, the National Park Service (NPS) is preparing an Environmental Impact Statement (EIS) for a Special Resource Study (SRS) of sites associated with Harriet Tubman in Auburn, New York, and Cambridge, Maryland, and possibly elsewhere. This study was mandated by Pub. L. 106-516, “The Harriet Tubman Special Resource Study Act.”

Harriet Tubman was born into slavery in Maryland in about 1820. She escaped and returned many times to escort others from bondage, defying fugitive slave laws. Today, Harriet Tubman is widely known for her work as a “conductor” on the Underground Railroad, a role which has been described in legal documents, letters, newspapers, magazines, biographies, and histories. To some extent, this has overshadowed the other accomplishments for which she is less well noted. She had a military career during the Civil War as a scout, a spy, and a nurse, and received military honors at her burial. She also created her own social service institution by establishing a home for elderly poor African Americans, known later as Harriet Tubman Home for the Aged.

The purpose of this Special Resource Study/EIS is to provide Congress with information about the significance, suitability, and feasibility of sites related to Harriet Tubman. The study will develop alternative options for management and interpretation of certain sites. In addition, the study will also examine Tubman-related sites as a potential national heritage area, per the authorizing legislation.

The NPS will hold public meetings in winter 2002-2003, in various locations containing resources associated with Harriet Tubman. The meetings will be announced on the study's Internet Web site, HarrietTubmanStudy.org, in local media, by direct mail, and through known Tubman interest groups. The purpose of these meetings is to obtain written and oral comments concerning Tubman resources, commemoration of Tubman, and issues of possible environmental impact topics. A summary of public scoping will be prepared as part of the draft Environmental Impact Statement.

The draft report of the study, with the draft EIS, is expected to be completed and available for public review by late 2003.

Additional information about the study/EIS may be obtained from the National Park Service Boston Support Office, 15 State Street, Boston, Massachusetts 02109, Barbara Mackey, Team Captain, at telephone 617-223-5138 or Barbara_Mackey@nps.gov.

Dated: December 11, 2002.
Lawrence Gall,
Acting Superintendent, Boston Support Office.

[FR Doc. 03-3097 Filed 2-6-03; 8:45 am]

BILLING CODE 4310-70-P